DEPARTMENT OF THE INTERIOR

Bureau of Land Management

[MT-926-01-1420-BJ]

Montana: Filing of Amended Protraction Diagram Plats

AGENCY: Bureau of Land Management, Montana State Office, Interior.

ACTION: Notice.

SUMMARY: The plats of the amended protraction diagram accepted July 2, 2001, of the following described lands are scheduled to be officially filed in the Montana State Office, Billings Montana, September 10, 2001.

Tps. 6, 7, and 8 S., Rs. 25, 26, and 27 E.

The plat, representing the Amended Protraction Diagram 9 Index of unsurveyed Townships 6, 7, and 8 South, Ranges 25, 26, and 27 East, Principal Meridian, Montana, was accepted July 2, 2001.

T. 6 S., R. 25 E.

The plat, representing Amended Protraction Diagram 9 of unsurveyed Township 6 South, Range 25 East, Principal Meridian, Montana, was accepted July 2, 2001.

T. 6 S., R. 26 E.

The plat, representing Amended Protraction Diagram 9 of unsurveyed Township 6 South, Range 26 East, Principal Meridian, Montana, was accepted July 2, 2001.

T. 6 S., R. 27 E.

The plat, representing Amended Protraction Diagram 9 of unsurveyed Township 6 South, Range 27 East, Principal Meridian, Montana, was accepted July 2, 2001.

T. 7 S., R. 26 E.

The plat, representing Amended Protraction Diagram 9 of unsurveyed Township 7 South, Range 26 East, Principal Meridian, Montana, was accepted July 2, 2001.

T. 7 S., R. 27 E.

The plat, representing Amended Protraction Diagram 9 of unsurveyed Township 7 South, Range 27 East, Principal Meridian, Montana, was accepted July 2, 2001.

T. 8 S., R. 26 E.

The plat, representing Amended Protraction Diagram 9 of unsurveyed Township 8 South, Range 26 East, Principal Meridian, Montana, was accepted July 2, 2001.

T. 8 S., R. 27 E.

The plat, representing Amended Protraction Diagram 9 of unsurveyed Township 8 South, Range 27 East, Principal Meridian, Montana, was accepted July 2, 2001.

The amended protraction diagram was prepared at the request of the U.S. Forest Service to accommodate Revision of Primary Base Quadrangle Maps for the Geometronics Service Center.

A copy of the preceding described plats of the amended protraction diagram accepted July 2, 2001, will be immediately placed in the open files and will be available to the public as a matter of information.

If a protest against the amended protraction diagram, accepted July 2, 2001, as shown on these plats, is received prior to the date of the official filings, the filings will be stayed pending consideration of the protests.

These particular plats of the amended protraction diagram will not be officially filed until the day after all protests have been accepted or dismissed and become final or appeals from the dismissal affirmed.

FOR FURTHER INFORMATION CONTACT: Bureau of Land Management, 5001 Southgate Drive, P.O. Box 36800, Billings, Montana 59107-6800.

Dated: July 9, 2001.
Steven G. Schey,
Chief Cadastral Surveyor, Division of Resources.

[FR Doc. 01-20024 Filed 8-8-01; 8:45 am]

BILLING CODE 4310-DN-P